DEPARTMENT OF ENERGY

Federal Energy Regulatory Commission

[Docket No. RP00-157-006]

Kern River Gas Transmission Company; Notice of Compliance Filing

November 29, 2001.

Take notice that on November 16, 2001, Kern River Gas Transmission Company submitted a clarification in compliance with the Commission's letter order dated November 7, 2001 in this docket number.

Kern River states that it has served a copy of this filing upon each person designated on the official service list compiled by the Secretary in this proceeding.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-30127 Filed 12-4-01; 8:45 am]

BILLING CODE 6717-01-P